DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Vessel Monitoring System Requirements in Western Pacific Fisheries.

OMB Control Number: 0648-0441.

Form Number(s): None.

Type of Request: Regular (extension of a currently approved information collection).

Number of Respondents: 201.

Average Hours per Response: 4 hours for installation or replacement of a VMS unit; 2 hours for annual maintenance.

Burden Hours: 170.

Needs and Uses: This request is for extension of a currently approved information collection.

As part of fishery management plans developed under the authority of the Magnuson-Stevens Fishery Conservation and Management Act, owners of commercial fishing vessels in the Hawaii pelagic longline fishery, American Samoa pelagic longline fishery (only vessels longer than 50 feet), Northwestern Hawaiian Islands lobster fishery (currently inactive), and Northern Mariana Islands bottomfish fishery (only vessels longer than 40 feet) must allow the National Oceanic and Atmospheric Administration (NOAA) to install vessel monitoring system (VMS) units on their vessels when directed to do so by NOAA enforcement personnel. VMS units automatically send periodic reports on the position of the vessel. NOAA uses the reports to monitor the vessel's location and activities, primarily to enforce regulated fishing areas. NOAA pays for the units and messaging. There is no public burden for the automatic messaging; however, VMS installation and annual maintenance are considered public burden.

Affected Public: Business or other for-profit organizations.

Frequency: One time, annually and hourly (passive reporting).

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 13, 2017.
Sarah Brabson,
NOAA PRA Clearance Officer.

[FR Doc. 2017-12566 Filed 6-15-17; 8:45 am]

BILLING CODE 3510-22-P